DEPARTMENT OF HOMELAND SECURITY

Coast Guard

33 CFR Part 117

[USCG-2013-0847]

Drawbridge Operation Regulations; Quogue Canal, Southampton, NY

AGENCY: Coast Guard, DHS.

ACTION: Notice of temporary deviation from regulations.

SUMMARY: The Commander, First Coast Guard District, has issued a temporary deviation from the regulations governing the operation of the Quogue Bridge, mile 1.1, across Quogue Canal, at Southampton, New York. This temporary deviation authorizes the Quogue Bridge to keep one of the two movable spans in the closed position in order to facilitate rehabilitation at the bridge.

DATES: This deviation is effective from October 1, 2013 through March 28, 2014.

ADDRESSES: Documents mentioned in this preamble as being available in the docket are part of docket USCG-2013-0847 and are available online at www.regulations.gov, inserting USCG-2013-0847 in the “Keyword” and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Ms. Judy Leung-Yee, Project Officer, First Coast Guard District, telephone (212) 668-7165, email judy.k.leung-yee@uscg.mil. If you have questions on viewing the docket, call Barbara Hairston, Program Manager, Docket Operations, telephone 202-366-9826.

SUPPLEMENTARY INFORMATION: The Quogue Bridge, across Quogue Channel, mile 1.1, at Southampton, New York, has a vertical clearance in the closed position of 15 feet at mean high water and 16 feet at mean low water. The existing drawbridge operation regulations are listed at 33 CFR 117.799(d).

The owner of the bridge, Suffolk County Department of Public Works, requested a temporary deviation to facilitate rehabilitation at the bridge.

The waterway has commercial and seasonal recreational vessels of various sizes.

Under this temporary deviation the draw of the Quogue Bridge, mile 1.1, across Quogue Canal may keep one lift span in the closed position from October 1, 2013 through March 28, 2014.

The Coast Guard contacted all known commercial waterway users regarding this deviation and no objections were received.

In accordance with 33 CFR 117.35(e), the bridge must return to its regular operating schedule immediately at the end of the designated time period. This deviation from the operating regulations is authorized under 33 CFR 117.35.

Dated: September 13, 2013.
Gary Kassof,
Bridge Program Manager, First Coast Guard District.

[FR Doc. 2013-23113 Filed 9-23-13; 8:45 am]

BILLING CODE 9110-04-P